DEPARTMENT OF DEFENSE

Department of the Navy

Notice of Intent To Prepare an Environmental Impact Statement for Land-Water Interface and Service Pier Extension, Naval Base Kitsap Bangor, Silverdale, WA and To Announce Public Scoping Meetings

AGENCY: Department of the Navy, DoD.

ACTION: Notice.

SUMMARY: Pursuant to section (102)(2)(c) of the National Environmental Policy Act (NEPA) of 1969 and the regulations implemented by the Council on Environmental Quality (CEQ) (40 CFR parts 1500-1508), the Department of the Navy (DoN) announces its intent to prepare an Environmental Impact Statement (EIS) to evaluate the potential environmental impacts associated with two actions: (1) The proposed construction and operation of Land-Water Interface (LWI) structures and (2) the proposed construction and operation of a Service Pier Extension (SPE) on Naval Base (NAVBASE) Kitsap Bangor.

The DoN proposes two projects on NAVBASE Kitsap Bangor waterfront to: (1) Comply with Department of Defense (DoD) directives to protect Navy OHIO Class ballistic missile submarines (TRIDENT submarines) from increased and evolving threats and to prevent the seizure, damage, or destruction of military assets and (2) eliminate deployment constraints and improve maintenance of SEAWOLF Class submarines.

The first proposed action includes constructing two LWI structures and modifying the existing floating Port Security Barrier (PSB) system for improved protection of TRIDENT submarines. Construction of the LWI structures would enclose the Navy Waterfront Restricted Area (WRA) on NAVBASE Kitsap Bangor by constructing security barriers in the intertidal zone at the Bangor waterfront. Construction is anticipated to take two years. Construction activities occurring in the water during the first year may involve pile driving and would be conducted July 2015 through February 2016. Once the pile driving is complete, activities other than pile driving may occur in the water up until February 2017.

The second proposed action would relocate SEAWOLF Class submarines SSN-21 (SEAWOLF) and SSN-22 (CONNECTICUT) from NAVBASE Kitsap Bremerton to join SSN-23 (JIMMY CARTER) at NAVBASE Kitsap Bangor. The existing Service Pier would be extended and land based associated support facilities would be constructed including a Maintenance Support Facility, and utility upgrades including an emergency power generator, and a parking lot. Shore based facilities constructed on the pier would include a Pier Services and Compressor Building and a pier crane. Construction would occur from April 2015 to March 2017. Construction in the water is planned for July through February of each year, beginning in July 2015 and concluding in February 2017. The relocation would result in the consolidation of berthing and support for the SEAWOLF Class submarines at NAVBASE Kitsap Bangor.

NAVBASE Kitsap is the action proponent. The LWI construction and PSB modifications are for the DoN's Strategic Systems Programs (SSP), which directs research, development, manufacturing, test, evaluation, and operational support of the TRIDENT program. The SPE and supporting facilities are for Commander, Submarine Development Squadron Five (CSDS-5). CSDS-5 is the Immediate Superior in Command for all three SEAWOLF Class submarines and four DoN research, development, test, and evaluation (RDT&E) detachments based at NAVBASE Kitsap Bangor.

The DoN is the lead federal agency for this action. The DoN is requesting the U.S. Army Corps of Engineers and the National Marine Fisheries Service to be Cooperating Agencies. The DoN will hold public scoping meetings to receive oral and/or written comments on environmental concerns related to the proposed actions, to determine the scope of issues to address in the Draft EIS, and to identify and refine alternatives to the proposed actions. Federal, state, and local agencies, American Indian tribes, and the public are invited to participate in the scoping process.

The public scoping meetings will be conducted in English and will be arranged in an informal, open-house format. Attendees will be provided the opportunity to sign in and then visit various stations hosted by DoN representatives and technical staff assigned to provide information and answer questions. Several large display boards will be located throughout the meeting locations to assist attendees in understanding the proposed actions and the alternatives. Fact sheets about the proposed actions and alternatives will be available to attendees. A comment table with comment sheets will be placed in an easily accessible location.

DATES AND ADDRESSES: The public scoping meetings will be held on the following dates and locations:

1. February 20, 2013 from 5:00 p.m. to 8:00 p.m. at the Chimacum High School Commons, 91 West Valley Road, Chimacum, WA 98325; and

2. February 21, 2013 from 5:00 p.m. to 8:00 p.m. at the North Kitsap High School Commons, 1780 Northeast Hostmark Street, Poulsbo, WA 98370.

FOR FURTHER INFORMATION CONTACT: Naval Facilities Engineering Command Northwest, Attn: Thomas Dildine, LWI/SPE EIS Project Manager, 1101 Tautog Circle, Silverdale, WA 98315-1101, Email: nwnepa@navy.mil, Phone: 360-396-6387, or Web site: https://www.nbkeis.com/lwi/.

SUPPLEMENTARY INFORMATION: The purpose of the LWI project is to (1) comply with DoD directives to protect TRIDENT submarines from increased and evolving threats and to prevent the seizure, damage, or destruction of military assets. The purpose of the SPE project is to eliminate deployment constraints and improve maintenance of SEAWOLF Class submarines.

The need for the LWI is to:

• Enhance security within the WRA. Protection of strategic military assets is a vital national security concern. Aggressive security improvements within the DoN pre-date the USS Cole incident and the terrorist attacks of September 11, 2001 and continue today.

The need for the SPE is to:

• Remove restrictions on navigating SEAWOLF Class submarines through Rich Passage under certain tidal conditions;

• Improve long-term operational effectiveness for the three SEAWOLF Class submarines at NAVBASE Kitsap Bangor;

• Provide berthing and logistical support at the DoN's submarine RDT&E hub, which is located on NAVBASE Kitsap Bangor; and

• Improve submarine crew training and readiness through co-location of the SEAWOLF Class submarines and crew with command functions at NAVBASE Kitsap Bangor submarine training center.

The LWI and SPE are related actions due to their proximity, anticipated timing of construction, and potential to affect similar resources, but are not connected projects because each proposed action would function independently. While independent in function, the projects may have the potential to affect related resources, so the DoN has chosen to analyze both projects in a single EIS.

The EIS must evaluate reasonable alternatives in accordance with the CEQ regulations (40 Code of Federal Regulations [CFR] § 1502.14) and DoN regulations (32 CFR Part 775) that implement the NEPA. Alternatives for the proposed action were identified based on security and program requirements, avoiding or minimizing environmental impacts, and compatibility with existing facilities, infrastructure, and operational missions.

The DoN is considering the following alternatives to satisfy each purpose and need:

(i) LWI Alternative 1 (No Action)—Under the No Action Alternative, the DoN would not build the LWI and associated PSB modifications. DoD and DoN security requirements for the TRIDENT program would not be met.

(ii) LWI Alternative 2 (Pile-Supported Pier and PSB Modification)—Under this alternative, the LWI structure would include two pile-supported piers built from shoreline abutments to connect with the existing PSB system at the north and south sides of the NAVBASE Kitsap Bangor WRA. Each pier would connect to a solid concrete abutment to be constructed on the shore, and an anchoring structure for the PSBs to be installed at the seaward end of each pier. The LWI pier structure would be 280 feet long at the northern location and 730 feet long at the southern location. The piers would be supported by up to fifty-four 24-inch diameter steel piles at the northern location and up to eighty-two 24-inch diameter steel piles at the southern location. A fence would be installed along the length of the piers, five 30 foot tall towers would be installed on the piers to support lights and cameras, and a mesh/grate with sensors would extend from the bottom of the pier walkway to the seafloor.

(iii) LWI Alternative 3 (Port Security Barrier Modification)—This alternative, the DoN would build the LWI using PSBs instead of a pile supported pier. The LWI structures would consist of modifying and lengthening the existing PSBs at the same north and south locations as the pile supported pier alternative. The PSB sections would be 280 feet long at the northern location and 730 feet long at the southern location. The existing PSB system would be modified and lengthened to extend across the intertidal zone and would attach to shoreline abutments. Two solid concrete abutments would be constructed at the shore end of the north and south location to form a secure barrier from the bluff to the intertidal zone. Three 30 foot tall in-water towers would be installed to support lights and security equipment. The in-water towers would each be supported by a platform resting on four 24 inch piles. Two additional 30 foot tall towers would be installed on land.

(iv) SPE Alternative 1 (No Action)—The DoN would not consolidate SEAWOLF berthing and support services. The SEAWOLF Class submarines would continue to have reduced operational availability (due to tide windows limiting safe navigation through Rich Passage) and the long-term operations and maintenance efficiency and effectiveness resulting from consolidation of SEAWOLF Class submarines in one location would not occur.

(v) SPE Alternative 2 (Short Pier Configuration) The DoN would consolidate SEAWOLF Class submarines on NAVBASE Kitsap Bangor and build and operate the SPE proposed action using a side by side submarine mooring configuration. The proposed new facilities associated with this option include a 600-lineal-foot SPE, a 3,100-square-foot Pier Services and Compressor Building, a pier crane, a 50,000-square-foot shoreside Maintenance Support Facility, and a shoreside emergency diesel generator facility. The new Maintenance Support Facility would be built within an existing parking lot. To support additional personnel, a 6-acre upland parking lot and lay down area would be constructed near the proposed Maintenance Support Facility. The SPE would be supported by approximately 320 steel piles.

(vi) SPE Alternative 3 (Long Pier Configuration)—The DoN would consolidate SEAWOLF Class submarines on NAVBASE Kitsap Bangor and build and operate the SPE proposed action using an in-line berth submarine mooring configuration. The proposed new facilities associated with this option include a 1,200-lineal-foot SPE, a 3,100-square-foot Pier Services and Compressor Building, a pier crane, a 50,000-square-foot shoreside Maintenance Support Facility, and a shoreside emergency diesel generator facility. The new Maintenance Support Facility would be built within an existing parking lot. To support additional personnel, a 6-acre upland parking lot and lay down area would be constructed near the proposed Maintenance Support Facility. The SPE would be supported by approximately 700 steel piles.

The proposed actions will be designed to minimize environmental impacts to the extent practicable. Project details including construction methods, schedule, operations, and maintenance, will be developed during the design process and analyzed in the Draft EIS.

No decision will be made to implement any alternative until the EIS process is completed and a Record of Decision is signed by the acting Principal Deputy Assistant Secretary of the Navy (Energy, Installations, and Environment).

The impacts to be evaluated include, but will not be limited to, effects on federally listed threatened and endangered species and critical habitat, impacts relating to underwater noise and airborne noise from pile driving and other actions, loss of eelgrass and other marine habitat, decreased opportunities for migratory and transient movement of fish and wildlife within the waterfront, reduction in water quality, effects on littoral drift (shoreline sediment movement), and effects on tribal resources.

The analysis will include an evaluation of direct, indirect, short-term, and long-term impacts of construction and operation of each project as well as cumulative impacts from other DoN and non-DoN activities in the project area.

The DoN is initiating the scoping process to identify community concerns and local issues to be addressed in the EIS. Federal, state, and local agencies, American Indian tribes, and interested persons are encouraged to provide written comments at scheduled public scoping meetings. All written statements will become part of the public record and will be responded to in the Draft EIS.

Written comments should be mailed to Naval Facilities Engineering Command Northwest, 1101 Tautog Circle, Silverdale, WA 98315-1101, Attention: Thomas Dildine, LWI/SPE EIS Project Manager. Comments may also be submitted online at https://www.nbkeis.com/lwi/ during the comment period. All comments must be received by March 17, 2013 to ensure they become part of the official record.

Dated: January 28, 2013.
C.K. Chiappetta,
Lieutenant Commander, Office of the Judge Advocate General U.S. Navy, Federal Register Liaison Officer.

[FR Doc. 2013-02176 Filed 1-31-13; 8:45 am]

BILLING CODE 3810-FF-P